OFFICE OF PERSONNEL MANAGEMENT

Submission for OMB Review; Comment Request for a Revised Information Collection: Generic Survey Plan

AGENCY: Office of Personnel Management.

ACTION: Notice.

SUMMARY: In accordance with the Paperwork Reduction Act of 1995 (Pub. L. 104-13, May 22, 1995), this notice announces that the Office of Personnel Management (OPM) will submit to the Office of Management and Budget a request for review of a revised information collection. The Generic Survey Plan was revised to be an umbrella clearance for all OPM customer satisfaction surveys used with OPM programs and services. This Plan satisfies the requirements of Executive Order 12862 and the guidelines set forth in OMB's Resources Manual for Customer Surveys.

The surveys completed will include web-based (electronic), paper-based, telephone and focus groups. We estimate approximately 3,997,780 surveys will be completed in FY 2003, 4,747,790 surveys in FY 2004 and 6,129,100 surveys in FY 2005. The time estimate varies from 1 minute to 2 hours with the average being 15 minutes. The annual estimated burden is 614,802 hours for FY 2003, 704,812 hours for FY 2004, and 794,769 hours for FY 2005.

For copies of this proposal, contact Mary Beth Smith-Toomey on FAX (202) 418-3251 or E-mail to mbtoomey@opm.gov. Please include a mailing address with your request.

DATES: Comments on this proposal should be received on or before December 13, 2002.

ADDRESSES: Send or deliver comments to:

Mary Beth Smith-Toomey, OPM PRA Officer, U.S. Office of Personnel Management, 1900 E St., NW., Room 5415, Washington, DC 20415.

and

Stuart Shapiro, Agency Desk Officer, Office of Management and Budget, 725 17th St., NW., Room 10235, Washington, DC 20503.

Office of Personnel Management.
Kay Coles James,
Director.

[FR Doc. 02-28811 Filed 11-12-02; 8:45 am]

BILLING CODE 6325-47-P